DEPARTMENT OF DEFENSE

Defense Acquisition Regulations System

48 CFR Parts 202 and 252

Defense Federal Acquisition Regulation Supplement; Technical Amendments

AGENCY: Defense Acquisition Regulations System, Department of Defense (DoD).

ACTION: Final rule.

SUMMARY: DoD is making technical amendments to the Defense Federal Acquisition Regulation Supplement (DFARS) to update the list of Air Force and Navy contracting activities and to remove obsolete text.

EFFECTIVE DATE: September 6, 2007.

FOR FURTHER INFORMATION CONTACT: Ms. Michele Peterson, Defense Acquisition Regulations System, OUSD (AT&L) DPAP (DARS), IMD 3D139, 3062 Defense Pentagon, Washington, DC 20301-3062. Telephone (703) 602-0311; facsimile (703) 602-7887.

SUPPLEMENTARY INFORMATION: This final rule amends DFARS text as follows:

○ Section 202.101. Updates the list of Air Force and Navy contracting activities.

○ Section 252.219-7009. Removes an obsolete date within a reference to a partnership agreement between DoD and the Small Business Administration.

List of Subjects in 48 CFR Parts 202 and 252

Government procurement.

Michele P. Peterson,
Editor, Defense Acquisition Regulations System.

Therefore, 48 CFR Parts 202 and 252 are amended as follows:

1. The authority citation for 48 CFR Parts 202 and 252 continues to read as follows:

Authority: 41 U.S.C. 421 and 48 CFR chapter 1.

PART 202—DEFINITIONS OF WORDS AND TERMS

2. Section 202.101 is amended in the definition of “Contracting activity” as follows:

a. In the list with the heading “NAVY”, by removing “Deputy, Acquisition Management, Office of the Assistant Secretary of the Navy (Research, Development, and Acquisition)” and adding in its place “Office of the Deputy Assistant Secretary of the Navy (Acquisition & Logistics Management)”; and

b. By revising the list with the heading “AIR FORCE”.

The revised list reads as follows:

202.101 Definitions.

* * * * *

AIR FORCE

Office of the Assistant Secretary of the Air Force (Acquisition)

Office of the Deputy Assistant Secretary (Contracting)

Air Force District of Washington

Air Force Operational Test & Evaluation Center

Air Force Special Operations Command

United States Air Force Academy

Air Force Materiel Command

Air Force Reserve Command

Air Combat Command

Air Mobility Command

Air Education and Training Command

Pacific Air Forces

United States Air Forces in Europe

Air Force Space Command

Program Executive Office for Aircraft Systems

Program Executive Office for Command and Control & Combat Support Systems

Program Executive Office for Combat and Mission Support

Program Executive Office for F/A-22 Programs

Program Executive Office for Joint Strike Fighter

Program Executive Office for Weapons

* * * * *

PART 252—SOLICITATION PROVISIONS AND CONTRACT CLAUSES

252.219-7009 [Amended]

3. Section 252.219-7009 is amended as follows:

a. By revising the clause date to read “(SEP 2007)”; and

b. In paragraph (a), in the first sentence, by removing “dated February 1, 2002,”.

[FR Doc. E7-17430 Filed 9-5-07; 8:45 am]

BILLING CODE 5001-08-P